DEPARTMENT OF COMMERCE

International Trade Administration

A-552-802

Certain Frozen Warmwater Shrimp from the Socialist Republic of Vietnam: Amended Final Results of Antidumping Duty Administrative Review

AGENCY: Import Administration, International Trade Administration, Department of Commerce.

SUMMARY: On September 15, 2009, the Department of Commerce (“Department”) published the final results and final partial rescission of the antidumping duty administrative review of the antidumping duty order on certain frozen warmwater shrimp from the Socialist Republic of Vietnam (“Vietnam”) covering the period February 1, 2007, through January 31, 2008. See Certain Frozen Warmwater Shrimp From the Socialist Republic of Vietnam: Final Results and Final Partial Rescission of Antidumping Duty Administrative Review, 74 FR 47191 (September 15, 2009) (“Final Results”). Pursuant to section 751(h) of the Tariff Act of 1930, as amended (“the Act”), and 19 CFR 351.224(e), we are amending the Final Results to correct a ministerial error in the name assigned to a respondent not selected for individual examination, Thuan Phuoc Seafoods and Trading Corporation, that received a separate rate.

EFFECTIVE DATE: October 20, 2009.

FOR FURTHER INFORMATION CONTACT: Irene Gorelik, AD/CVD Operations, Office 9, Import Administration, International Trade Administration, U.S. Department of Commerce, 14th Street and Constitution Avenue, NW, Washington DC 20230; telephone: (202) 482-6905.

SUPPLEMENTARY INFORMATION:

Background

On September 15, 2009, Minh Hai Export Frozen Seafood Processing Joint-Stock Company, Soc Trang Seafood Joint Stock Company, Bac Lieu Fisheries Joint Stock Company, Thuan Phuoc Seafoods and Trading Corporation, and UTXI Aquatic Products Processing Corporation (collectively, “SR respondents”) filed timely allegations, pursuant to 19 CFR 351.224(c)(1), that the Department made ministerial errors regarding the respective company names listed in the Final Results. No other interested parties filed ministerial error allegations or rebuttals to the SR respondents' ministerial error allegation.

The SR respondents allege that the Department made a ministerial error with respect to the names listed in the “Final Results of Review” section of the Final Results. Specifically, Soc Trang Seafood Joint Stock Company claims that the Department inadvertently omitted the claimed “doing-business-as” (“dba”) name of “STAPIMEX” from the Final Results. Thuan Phuoc Seafoods and Trading Corporation argues that its name abbreviated as “Thuan Phuoc JSC” in the Final Results is not a dba name actually used by the company. Additionally, Thuan Phuoc Seafoods and Trading Corporation argues that the Department omitted six other dba names from the Final Results.¹ UTXI Aquatic Products Processing Corporation argues that the Department made a ministerial error in the Final Results by omitting the following dba names: UTXI, UTXI Co. Ltd., Khanh Loi Seafood Factory, and Hoang Phuong Seafood Factory. Lastly, Minh Hai Export Frozen Seafood Processing Joint-Stock Company argues that the Department omitted the abbreviation “Minh Hai Export-Jostoco” from the Final Results.

¹ Thuan Phuoc, Frozen Seafoods Factory No. 32, Frozen Seafoods Fty, Frozen Seafoods Factory 32, Seafoods and Foodstuff Factory, and My Son Seafood Factory.

Amended Final Results of Review

A ministerial error, as defined in section 751(h) of the Act, includes “errors in addition, subtraction, or other arithmetic function, clerical error resulting from inaccurate copying, duplication, or the like, and any other type of unintentional error which the {Secretary} considers ministerial.” See also 19 CFR 351.224(f). After analyzing the SR respondents' allegations, we have determined, in accordance with section 751(h) of the Act and 19 CFR 351.224(e), that the Department made a ministerial error in the Final Results by unintentionally assigning to Thuan Phuoc Seafoods and Trading Corporation an abbreviated form of its name, “Thuan Phuoc JSC,” that was not used by the company as a trade name.² Therefore, we are amending the final results of administrative review of certain frozen warmwater shrimp from Vietnam for the period February 1, 2007, through January 31, 2008, to remove “Thuan Phuoc JSC” as an abbreviation of SR respondent, Thuan Phuoc Seafoods and Trading Corporation. Although we disagree that we made ministerial errors with respect to the other allegations referenced above, for clarification we will include dba names in these amended final results. For further explanation of our reasons, see Amended Final Memo. The weighted-average percentage dumping margins have not changed from the Final Results for any companies:

²“For a detailed explanation, see “Memorandum to James C. Doyle, Director, Office 9, through Catherine Bertrand, Program Manager, Office 9, from Irene Gorelik, Senior Analyst, Office 9; Certain Frozen Warmwater Shrimp from the Socialist Republic of Vietnam: Allegation of Ministerial Error in the Final Results of the Third Administrative Review,” dated concurrently with the signature date of this notice (“Amended Final Memo”). In the Amended Final Memo, the Department also addresses the ministerial error allegations brought by Minh Hai Export Frozen Seafood Processing Joint-Stock Company, Soc Trang Seafood Joint Stock Company, Bac Lieu Fisheries Joint Stock Company, and UTXI Aquatic Products Processing Corporation.

Certain Frozen Warmwater Shrimp from Vietnam
Manufacturer/Exporter | Weighted-Average Margin (Percent)
Thuan Phuoc Seafoods and Trading Corporation³ aka,
Frozen Seafoods Factory No. 32, aka,
Frozen Seafoods Fty, aka,
Thuan Phuoc, aka
Frozen Seafoods Factory 32, aka
Seafoods and Foodstuff Factory, aka
My Son Seafoods Factory | 4.57 %
Minh Hai Export Frozen Seafood Processing Joint Stock Company, aka
Minh Hai Jostoco, aka
Minh Hai Export Frozen Seafood Processing Joint-Stock Company (“Minh Hai Jostoco”), aka
Minh Hai Export Frozen Seafood Processing Joint-Stock Company, aka
Minh Hai Joint Stock Seafood Processing Joint-Stock Company, aka
Minh Hai Export Frozen Seafood Processing Joint-Stock Co., aka
Minh Hai Export Frozen Seafood Processing Joint-Stock Company Minh Hai Jostoco | 4.57 %
Soc Trang Seafood Joint Stock Company⁴, aka
STAPIMEX | 4.57 %
UTXI Aquatic Products Processing Corporation⁵, aka
UTXI, aka
UTXI Co. Ltd., aka
UTXICO
Khanh Loi Seafood Factory, aka
Hoang Phuong Seafood Factory | 4.57 %
Vietnam-Wide Rate⁶ | 25.76 %
³ This company, via a CCR, has assumed the separate rate for the former entity and all other trade names associated with the former entity that had also been previously granted separate rate status. See Frozen Warmwater Shrimp From Vietnam: Notice of Final Results of Antidumping Duty Changed Circumstances Reviews, 74 FR 42050 (August 20, 2009) (“Vietnam Shrimp CCR Final”); see also Final Results and accompanying Issues and Decision Memorandum at Comment 17.
⁴ This company, via a CCR, has assumed the separate rate for the former entity and all other trade names associated with the former entity that had also been previously granted separate rate status. See Vietnam Shrimp CCR Final; see also Final Results and accompanying Issues and Decision Memorandum at Comment 17.
⁵ This company, via a CCR, has assumed the separate rate for the former entity and all other trade names associated with the former entity that had also been previously granted separate rate status. See Vietnam Shrimp CCR Final; see also Final Results and accompanying Issues and Decision Memorandum at Comment 17.
⁶ The Vietnam-wide entity includes: AAAS Logistics; Agrimex; Amerasian Shipping Logistics Corp.; American Container Line; An Giang Fisheries Import and Export Joint Stock Company (Agifish); An Xuyen; Angiang Agricultural; Technology Service Company; Aquatic Products Trading Company; Bentre Aquaproduct Imports & Exports; Bentre Forestry and Aquaproduct Import-Export Company (“FAQUIMEX”); Bentre Frozen Aquaproduct Exports; Bentre Seafood Joint Stock; Beseaco, Binh Dinh Fishery Joint Stock; Cantho Import-Export Seafood Joint Stock Company(“Caseamex”); Can Tho Import Export Fishery Limited Company (“CAFISH“); Ca Mau Seaproducts Exploitation and Service Corporation (“SES”); Camau Seafood Fty; Can Tho Seafood Exports; Cautre Enterprises; Chun Cheng Da Nang Co., Ltd.; Co Hieu; Cong Ty Do Hop Viet Cuong; Dao Van Manh; Dong Phuc Huynh; Dragon Waves Frozen Food Fty.; Duyen Hai Bac Lieu Company (“T.K. Co.”); Duyen Hai Foodstuffs Processing Factory (“COSEAFEX”); General Imports & Exports; Hacota; Hai Ha Private Enterprise; Hai Thuan Export Seaproduct Processing Co., Ltd. ; Hai Viet; Hai Viet Corporation (“HAVICO”); Hanoi Seaproducts Import Export Corporation (“Seaprodex Hanoi”); Seaprodex Hanoi; Hatrang Frozen Seaproduct Fty; Hoa Nam Marine Agricultural; Hoan An Fishery; Hoan Vu Marine Product Co., Ltd.; Hua Heong Food Ind Vietnam; Khanh Loi Trading; Kien Gang Sea Products Import - Export Company (Kisimex); Kien Gang Seaproduct Import and Export Company (“KISIMEX”); Konoike Vinatrans Logistics; Lamson Import-Export Foodstuffs Corporation; Long An Food Processing Export Joint Stock Company (“LAFOOCO”); Lucky Shing; Nam Hai; Nha Trang Company Limited; Nha Trang Fisheries Co. Ltd.; Pataya Food Industry (Vietnam) Ltd.; Phat Loc Seafood; Phung Hung Private Business; Saigon Orchide; Sea Product; Sea Products Imports & Exports; Seafood Company Zone II (“Thusaco2”); Seafood Processing Joint Stock Company No.9 (previously Seafood Processing Imports Exports); Seafoods and Foodstuff Factory; Seaprodex; Seaprodex Quang Tri; Sonacos; Song Huong ASC Import-Export Company Ltd.; Song Huong ASC Joint Stock Company; Special Aquatic Products Joint Stock Company (“Seaspimex”); SSC; T & T Co., Ltd.; Tacvan Frozen Seafoods Processing Export Company; Thami Shipping & Airfreight; Thang Long; Thanh Long; Thanh Doan Seaproducts Import; Thien Ma Seafood; Tourism Material and Equipment Company (Matourimex Hochiminh City Branch); Truc An Company; Trung Duc Fisheries Private Enterprise; V N Seafoods; Vien Thang Private Enterprise; Viet Nhan Company; Vietfracht Can Tho; Vietnam Northern Viking Technologie Co.; Vietnam Northern Viking Technology Co. Ltd.; Vietnam Tomec Co., Ltd.; Vilfood Co.; and Vita.

Assessment Rate

The Department will determine, and U.S. Customs and Border Protection (“CBP”) shall assess, antidumping duties on all appropriate entries based on the amended final results. For details on the assessment of antidumping duties on all appropriate entries, see Final Results. The Department intends to issue appropriate assessment instructions directly to CBP 15 days after the date of publication of the amended final results of the administrative review.

Cash Deposit Requirements

The following deposit rates will be effective retroactively on any entries made on or after September 15, 2009, the date of publication of the Final Results, for all shipments of certain frozen warmwater shrimp from Vietnam entered, or withdrawn from warehouse, for consumption on or after the publication date, as provided by section 751(a)(2)(C) of the Act: (1) For the exporters listed above, the cash deposit rate will be established in these amended final results of review (except, if the rate is zero or de minimis, i.e., less than 0.5 percent, a zero cash deposit rate will be required for that company); (2) for previously investigated or reviewed Vietnamese and non-Vietnamese exporters not listed above that have separate rates, the cash deposit rate will continue to be the exporter-specific rate published for the most recent period; (3) for all Vietnamese exporters of subject merchandise which have not been found to be entitled to a separate rate, the cash deposit rate will be the Vietnamese-wide rate of 25.76 percent; and (4) for all non-Vietnamese exporters of subject merchandise which have not received their own rate, the cash deposit rate will be the rate applicable to the Vietnamese exporters that supplied that non-Vietnamese exporter. These deposit requirements, when imposed, shall remain in effect until further notice.

Notification to Importers

This notice also serves as a final reminder to importers of their responsibility under 19 CFR 351.402(f)(2) to file a certificate regarding the reimbursement of antidumping duties prior to liquidation of the relevant entries during this review period. Failure to comply with this requirement could result in the Secretary's presumption that reimbursement of antidumping duties occurred, and in the subsequent assessment of double antidumping duties.

Notification of Interested Parties

This notice serves as a final reminder to importers of their responsibility under 19 CFR 351.402(f)(2) to file a certificate regarding the reimbursement of antidumping duties prior to liquidation of the relevant entries during the review period. Pursuant to 19 CFR 351.402(f)(3), failure to comply with this requirement could result in the Department's presumption that reimbursement of antidumping duties occurred and the subsequent assessment of doubled antidumping duties.

This notice also serves as a reminder to parties subject to administrative protective order (“APO”) of their responsibility concerning the disposition of proprietary information disclosed under APO as explained in the administrative protective order itself. Timely written notification of the return/destruction of APO materials or conversion to judicial protective order is hereby requested. Failure to comply with the regulations and the terms of an APO is a sanctionable violation.

We are issuing and publishing these results and notice in accordance with sections 751(a)(1) and 777(i)(1) of the Act.

Dated: October 13, 2009.
Ronald K. Lorentzen,
Acting Assistant Secretary for Import Administration.

[FR Doc. E9-25209 Filed 10-19-09; 8:45 am]

BILLING CODE 3510-DS-S